SMALL BUSINESS ADMINISTRATION

[Declaration of Disaster #3639]

State of Minnesota (Amendment #1)

In accordance with a notice received from the Department of Homeland Security—Federal Emergency Management Agency—effective September 27, 2004, the above numbered declaration is hereby amended to establish the incident period for this disaster as beginning September 14, 2004, and continuing through September 27, 2004.

All other information remains the same, i.e., the deadline for filing applications for physical damage is December 6, 2004 and for economic injury the deadline is July 7, 2005.

(Catalog of Federal Domestic Assistance Program Nos. 59002 and 59008)
Dated: October 15, 2004.
Herbert L. Mitchell,
Associate Administrator for Disaster Assistance.

[FR Doc. 04-23638 Filed 10-21-04; 8:45 am]

BILLING CODE 8025-01-P